DEPARTMENT OF COMMERCE

International Trade Administration

Notice of Scope Ruling Applications Filed in Antidumping and Countervailing Duty Proceedings

AGENCY: Enforcement and Compliance, International Trade Administration, Department of Commerce.

SUMMARY: The Department of Commerce (Commerce) received scope ruling applications, requesting that scope inquiries be conducted to determine whether identified products are covered by the scope of antidumping duty (AD) and/or countervailing duty (CVD) orders and that Commerce issue scope rulings pursuant to those inquiries. In accordance with Commerce's regulations, we are notifying the public of the filing of the scope ruling applications listed below in the month of March 2022.

DATES: Applicable April 22, 2022.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

Notice of Scope Ruling Applications: In accordance with 19 CFR 351.225(d)(3), we are notifying the public of the following scope ruling applications related to AD and CVD orders and findings filed in or around the month of March 2022. This notification includes, for each scope application: (1) Identification of the AD and/or CVD orders at issue (19 CFR 351.225(c)(1)); (2) concise public descriptions of the products at issue, including the physical characteristics (including chemical, dimensional and technical characteristics) of the products (19 CFR 351.225(c)(2)(ii)); (3) the countries where the products are produced and the countries from where the products are exported (19 CFR 351.225(c)(2)(i)(B)); (4) the full names of the applicants; and (5) the dates that the scope applications were filed with Commerce and the name of the ACCESS scope segment where the scope applications can be found.¹ This notice does not include applications which have been rejected and not properly resubmitted. The scope ruling applications listed below are available on Commerce's online e-filing and document management system, Antidumping and Countervailing Duty Electronic Service System (ACCESS), at https://access.trade.gov.

¹ See Regulations to Improve Administration and Enforcement of Antidumping and Countervailing Duty Laws, 86 FR 52300, 52316 (September 20, 2021) (Final Rule) (“It is our expectation that the Federal Register list will include, where appropriate, for each scope application the following data: (1) Identification of the AD and/or CVD orders at issue; (2) a concise public summary of the product's description, including the physical characteristics (including chemical, dimensional and technical characteristics) of the product; (3) the country(ies) where the product is produced and the country from where the product is exported; (4) the full name of the applicant; and (5) the date that the scope application was filed with Commerce.”)

Scope Ruling Applications

Raw Flexible Magnets from the People's Republic of China (China) (A-570-922; C-570-923); Plastic shelf dividers; produced in and exported from China; ² submitted by Fasteners for Retail, Inc. dba Siffron (Siffron); March 11, 2022; ACCESS scope segments “Siffron Plastic Shelf Dividers.”

² Siffron's products are plastic shelf dividers, generally T or L-shaped, that include a flexible magnetic on their plastic base. The plastic shelf dividers, which are manufactured to fit standard size shelves, can also be custom made and sized to meet the organization and display needs of a particular retailer. The shelf dividers may be clear in color, opaque, or in a color that matches the retailer's shelves. Reusable, plastic shelf dividers may be moved to meet organization and display needs. Plastic shelf dividers are manufactured with rigid plastic, that ensures that product on a shelf remains organized and does not comingle. The plastic shelf dividers also allow retailers to design product displays to ensure their merchandise is displayed in a manner that allows consumers to view merchandise in an attractive and easy to view manner. The plastic shelf dividers covered by this request are classified under HTSUS heading 8505 and, according to CBP, HTSUS subheading 8505.19.2000. Plastic shelf dividers are manufactured and exported from China. The country of origin is China.

Wooden Cabinets and Vanities and Components Thereof from China (A-570-106; C-570-107); Chloe Styling Station and Sanden Shampoo Cabinet; ³ produced in and exported from China; submitted by AYC, LLC; March 16, 2022; ACCESS scope segments “AYC 3/16/22-4/30/22 Stylist Station.”

³ The Chloe Styling Station is a free-standing storage space and work surface made of wooden construction with metal or plastic fittings for use by hair professionals. The Sanden Shampoo Cabinet is a free-standing shampoo cabinet made of wooden construction with metal or plastic fittings for use by hair professionals. The tariff classification of the Chloe Styling Station and Sanden Shampoo Cabinet is 9403.60.8081, which covers other furniture and parts thereof. The Chloe Styling Station and Sanden Shampoo Cabinet are produced in and exported from China.

Certain Aluminum Foil from China (A-570-053, C-570-054); Capacitor foil; ⁴ produced in and exported from China or Singapore; submitted by GE Grid Solutions, LLC and Instrument Transformers, LLC (collectively, GE Grid); March 30, 2022; ACCESS scope segments “Capacitor Foil.”

⁴ There are two types of aluminum capacitor foil at issue: (1) Pre-slit, annealed foil, and (2) master logs of unannealed foil. Both types are made with aluminum alloys with aluminum content above 99%, 5 microns (0.005 mm or 0.00019 inch) thick, and imported in reels greater than 25 pounds. Neither type is backed or cut-to-shape. Both types of aluminum capacitor foil at issue are used in high-voltage capacitors that are manufactured by Instrument Transformers in the United States and sold to GE Grid. Instrument Transformers uses the aluminum capacitor foil only for its conductivity properties, and not for its barrier, thermal, reflective, or insulation properties. The conductivity properties of the aluminum capacitor foil functions in the capacitors by conducting electricity. The aluminum capacitor foil at issue will be produced in China, exported from China or Singapore, and China will be the declared country of origin for U.S. imports of the aluminum capacitor foil. The product's tariff classification under the HTSUS is 7607.11.3000. There is no domestic U.S. production of aluminum capacitor foil.

Certain Steel Trailer Wheels 12 to 16.5 Inches from China (A-570-090, C-570-091); Passenger vehicle wheels (Part Nos. X-76801 and 28860W); ⁵ produced in and exported from China; submitted by Wheel Source, Inc. (Wheel Source); March 31, 2022; ACCESS scope segments “Wheel Source III.”

⁵ The products subject to Wheel Source's request are steel wheels for automotive use only exported from the People's Republic of China which is also the declared country of origin. The product's tariff classification under the HTSUS is 8708.70.4560. Wheel Source imports steel passenger vehicle wheels not for use with trailers. Part no. X-76801 has an outside diameter (rim size) of 16 x 6.5 inches, with a center bore also known as a pilot diameter of 116.81mm and a load rating capacity of 3,500 pounds. Part no. X-76801 also has a positive offset of 28mm and an 8-6.5 bolt pattern. Part no. 28860W has an outside diameter (rim size) of 16 x 6 inches, with a center bore also known as a pilot diameter of 6.47 inches and a load rating capacity of 2,750. Part no. 28860W also has a negative offset of 5 inches and a 6-8.75 bolt pattern. Thus, Wheel Source's wheels fall within the rim size dimensions of the scope language. However, as described below, Wheel Source's wheels are distinguishable based on other physical characteristics that demonstrate they are not suitable for use on road and highway trailers or other towable equipment.

Wheel Source imports both hub-centric and multi-fit wheels. Hub-centric wheels are designed to a tighter tolerance fit for specific vehicles. Multi-fit wheels are designed so that a single product will fit multiple applications, i.e. multiple makes, models or years of the vehicle. A hub-centric wheel makes direct contact the mounting flange built into a vehicle's wheel hub. Multi-fit rims do not make contact with the hub. Part no. X-76801 is a multi-fit wheels and part no. 28860W is a hub centric wheel.

Further, multi-fit wheels are limited in use to certain vehicles and are not interchangeable with trailer wheels. Specifically, the wheels subject to this request are not only labeled “not for trailer use,” but are physically stamped “automotive use only.” Further, Wheel Source does not warrant the wheels subject to this request for any use other than with passenger vehicles.

Notification to Interested Parties

This list of scope ruling applications is not an identification of scope inquiries that have been initiated. In accordance with 19 CFR 351.225(d)(1), if Commerce has not rejected a scope ruling application nor initiated the scope inquiry within 30 days after the filing of the application, the application will be deemed accepted and a scope inquiry will be deemed initiated the following day—day 31.⁶ Commerce's practice generally dictates that where a deadline falls on a weekend, Federal holiday, or other non-business day, the appropriate deadline is the next business day.⁷ Accordingly, if the 30th day after the filing of the application falls on a non-business day, the next business day will be considered the “updated” 30th day, and if the application is not rejected or a scope inquiry initiated by or on that particular business day, the application will be deemed accepted and a scope inquiry will be deemed initiated on the next business day which follows the “updated” 30th day.⁸

⁶ In accordance with 19 CFR 351.225(d)(2), within 30 days after the filing of a scope ruling application, if Commerce determines that it intends to address the scope issue raised in the application in another segment of the proceeding (such as a circumvention inquiry under 19 CFR 351.226 or a covered merchandise inquiry under 19 CFR 351.227), it will notify the applicant that it will not initiate a scope inquiry, but will instead determine if the product is covered by the scope at issue in that alternative segment.

⁷ See Notice of Clarification: Application of “Next Business Day” Rule for Administrative Determination Deadlines Pursuant to the Tariff Act of 1930, As Amended, 70 FR 24533 (May 10, 2005).

⁸ This structure maintains the intent of the applicable regulation, 19 CFR 351.225(d)(1), to allow day 30 and day 31 to be separate business days.

In accordance with 19 CFR 351.225(m)(2), if there are companion AD and CVD orders covering the same merchandise from the same country of origin, the scope inquiry will be conducted on the record of the AD proceeding. Further, please note that pursuant to 19 CFR 351.225(m)(1), Commerce may either apply a scope ruling to all products from the same country with the same relevant physical characteristics, (including chemical, dimensional, and technical characteristics) as the product at issue, on a country-wide basis, regardless of the producer, exporter, or importer of those products, or on a company-specific basis.

For further information on procedures for filing information with Commerce through ACCESS and participating in scope inquiries, please refer to the Filing Instructions section of the Scope Ruling Application Guide, at https://access.trade.gov/help/Scope_Ruling_Guidance.pdf. Interested parties, apart from the scope ruling applicant, who wish to participate in a scope inquiry and be added to the public service list for that segment of the proceeding must file an entry of appearance in accordance with 19 CFR 351.103(d)(1) and 19 CFR 351.225(n)(4). Interested parties are advised to refer to the case segment in ACCESS as well as 19 CFR 351.225(f) for further information on the scope inquiry procedures, including the timelines for the submission of comments.

Please note that this notice of scope ruling applications filed in AD and CVD proceedings may be published before any potential initiation, or after the initiation, of a given scope inquiry based on a scope ruling application identified in this notice. Therefore, please refer to the case segment on ACCESS to determine whether a scope ruling application has been accepted or rejected and whether a scope inquiry has been initiated.

Interested parties who wish to be served scope ruling applications for a particular AD or CVD order may file a request to be included on the annual inquiry service list during the anniversary month of the publication of the AD or CVD order in accordance with 19 CFR 351.225(n) and Commerce's procedures.⁹

⁹ See Scope Ruling Application; Annual Inquiry Service List; and Informational Sessions, 86 FR 53205 (September 27, 2021).

Interested parties are invited to comment on the completeness of this monthly list of scope ruling applications received by Commerce. Any comments should be submitted to James Maeder, Deputy Assistant Secretary for AD/CVD Operations, Enforcement and Compliance, International Trade Administration, via email to CommerceCLU@trade.gov.

This notice of scope ruling applications filed in AD and CVD proceedings is published in accordance with 19 CFR 351.225(d)(3).

Dated: April 19, 2022.
James Maeder,
Deputy Assistant Secretary for Antidumping and Countervailing Duty Operations.

[FR Doc. 2022-08625 Filed 4-21-22; 8:45 am]

BILLING CODE 3510-DS-P